DEPARTMENT OF COMMERCE

National Oceanic and Atmospheric Administration

DEPARTMENT OF THE INTERIOR

Fish and Wildlife Service

DEPARTMENT OF TRANSPORTATION

Maritime Administration

[Docket No. 020418091-2091-01]

RIN 0648-ZB20

Ballast Waster Treatment Technology Demonstration Program: Request for Proposals for FY 2002

AGENCIES: National Sea Grant College Program, National Oceanic and Atmospheric Administration, Department of Commerce; Fish and Wildlife Service, Department of the Interior; and Maritime Administration, Department of Transportation.

ACTION: Notice of request for proposals.

SUMMARY: The purpose of this notice is to advise the public that the National Sea Grant College Program (Sea Grant), the U.S. Fish and Wildlife Service (Service), and the U.S. Maritime Administration (MARAD) are entertaining proposals to participate in ballast water treatment research and technology demonstration projects that address the problem of aquatic invasive species entering U.S. waters from ballast water. In FY 2002 only, Sea Grant and the Service expect to make available about $2.1 million to support projects to improve ballast water treatment and management, especially in the Chesapeake Bay and the Great Lakes. In addition, in FY 2002 only, MARAD expects to make available several ships of its Ready Reserve Force Fleet to act as test platforms for ballast water technology demonstration projects.

DATES: The closing date for receipt of proposals for funding by Sea Grant or the Service is 5 p.m. EDT, July 22, 2002. The closing date for letters of application for use of a MARAD ship is 5 p.m., EDT, July 8, 2002. Facsimile transmissions and electronic mail submission of proposals will not be accepted. We anticipate that funding decisions will be made by August 15, 2002, and that successful applicants will be able to initiate projects approximately December 1, 2002.

ADDRESSES: Proposals must be submitted to: National Sea Grant College Program, R/SG, Attn: Ballast Water Competition, Room 11841, NOAA, 1315 East-West Highway, Silver Spring, MD 20910 (phone number for express mail applications is 301-713-2435).

FOR FURTHER INFORMATION CONTACT: Dorn Carlson, Associate Program Director for Aquatic Nuisance Specifies, or Mary Robinson, Secretary, both at the National Sea Grant Office, 301-713-2435; facsimile 301-713-0799; or Sharon Gross, U.S. Fish and Wildlife Service, 703-358-2308; facsimile 703-358-2210; or Debra Aheron, U.S. Maritime Administration, 202-366-8887; facsimile 202-366-6988.

SUPPLEMENTARY INFORMATION:

1. Program Authority

Authority: 16 U.S.C. 4701 et seq.; 33 U.S.C. 1121-1131; 50 U.S.C. App 1744 (2000).

Catalog of Federal Assistance Number: 11.417, Sea Grant Support; 15.FFA, Fish and Wildlife Management Assistance.

II. Program Description

Background

Introductions of nonindigenous aquatic nuisance species (ANS) are increasing in frequency and causing substantial damage to the Nation's environment and economy. Although the most prominent of these introductions has been the zebra mussel, many other ANS have been introduced and have become a nationwide problem that threatens the environment, the economy, and public health and welfare. While some intentional introductions of nonindigenous aquatic species may have had beneficial effects, many others already present in U.S. waters, or with the potential to enter U.S. waters, may have significant impacts on the natural resources and economy of the United States. In response, the Nonindigenous Aquatic Nuisance Prevention and Control Act of 1990 (16 U.S.C. 4701 et seq.) and the National Invasive Species Act of 1996 (16 U.S.C. 4711-4714) (collectively, the Acts) established a framework for the Nation to address the problems of aquatic nuisance species invasions.

In addition, the Acts recognized the serious threat posed by ballast water discharge in causing new invasions and called for ballast water management demonstration programs. A 1996 National Research Council study of the ballast water problem, “Stemming the Tide,” concluded that, with the growth of global shipping, and the changes in modern shipping practices, introductions of aquatic nuisance species through ballast water discharge were likely to remain a serious problem. The study called for the development of improved technology for the management of ballast water to eliminate this treat to the Nation's waters. Several projects are under way demonstrating the usefulness of various technologies, although the possibility that there will be a single technological solution that is acceptable for all modes of shipping operations and classes of vessels is unlikely.

Resource Availability and Priorities

(1) Funding for Ballast Water Technology Projects

The National Sea Grant College Program of the National Oceanic and Atmospheric Administration (NOAA) of the Department of Commerce (DOC) and the U.S. Fish and Wildlife Service of the Department of the Interior (DOI) encourage proposals that address one of the following program areas:

(a) Ballast water projects that clearly target ballast water priorities of the Chesapeake Bay. About $870,000 is available to support projects in this program area. The maximum allowable request for a single project is $870,000.

(b) Ballast water projects that clearly target ballast water priorities of the Great Lakes. About $980,000 is available to support projects in this program area. The maximum allowable request for a single project is $980,000.

(c) Ballast water projects that clearly target documented national or regional ballast water management priorities. About $250,000 is available to support projects in this program area. The maximum allowable request for a single project is $250,000.

Proposals may be for basic or applied research, but research projects must clearly support the development and demonstration of ballast water treatment technologies that will ultimately be viable for use by operating vessels (although they need not support the development of any one particular technology). Projects may be proof-of-principle, laboratory-, pilot-, or full-scale experiments, or field tests. proposals for pilot-scale ballast water projects should demonstrate treatment technologies that have proven themselves at a laboratory scale, and proposals for full-scale projects should demonstrate treatment technologies that have proven themselves at a pilot scale.

Factors that demonstrate that a project targets Chesapeake Bay or Great Lakes priorities include:

—Whether all field experimentation in the project takes place in the Chesapeake Bay or Great Lakes, or uses ballast water taken from or destined for the Chesapeake Bay or Great Lakes, and the extent to which other aspects of the project are sited in the Chesapeake Bay or Great Lakes area;

—Whether the objectives of the project address documented Chesapeake Bay or Great Lakes issues of concern, such as those set out in the Chesapeake Bay Program document, “Recommendations for (a) the Reauthorization of the National Invasive Species Act of 1996, and (b) the National Ballast Management program, to Address issues of Concern for the Chesapeake Bay Region,” May 12, 2001, (CBP/TRS #255/01, EPA# 903-R-01-006), and the document from the Great Lakes Panel of the Aquatic Nuisance Species Task Force, “Policy Statement on Ballast Water Management,” March 2001 (available at Internet address http://www.glc.org/ans/3-16-bwmpolicyposition.pdf);

—Whether resource managers, maritime industry representatives, or other interests from the Chesapeake Bay or Great lakes have endorsed the project, especially if that endorsement includes participating in the design or execution of the project or providing matching funds; and,

—Whether the expertise and past experience of the investigators involves ballast water investigations relevant to the Chesapeake Bay or Great Lakes.

Examples of national ballast water priorities are those set out in the document, “Recommended Ballast Water Research Priorities of the Ballast Water and Shipping Committee of the Aquatic Nuisance Species Task Force,” February 28, 2002.

State and regional ballast water priorities have been published by some regional panels of the Aquatic Nuisance Species Task Force and in some State ANS Management Plans. Not all regions of the country have regional panels, and not all panels have published ballast water priorities. Not all states have State ANS Management Plans, and not all ANS Management Plans contain ballast water priorities. Further information on Aquatic Nuisance Species Task Force Committees, Regional Panels and State ANS Management Plans can be found at the Internet Web site, http://www.ANSTaskForce.gov/.

Funds for program areas 1(a) and 1(b) are provided by Sea Grant. The allocation of funds between Chesapeake Bay and the Great Lakes in these two program areas is according to Congressional direction. Funds for program area 1(c) are provided by the Service.

Contact Dorn Carlson, listed under FOR FURTHER INFORMATION CONTACT, above, with questions about eligibility for funding under these program areas. Matching funds are not required, but may be included. Proposals are limited to 1 year of funding, but activities may extend for up to 2 years; an annual report showing satisfactory progress must be submitted at the end of the first year. Project activities should include identified milestones for each project year.

(2) Use of ships as Test Platforms for Ballast Water Technology Demonstration Projects

The U.S. Maritime Administration is making available a limited number of ships to act as test platforms for ballast water technology demonstration projects. Proposed projects with higher impact and showing higher scientific or professional merit, as determined by the criteria in section IV., Evaluation Criteria, below, will be given higher priority for use of a MARAD ship, provide that a ship appropriate to that project is available and all other requirements of MARAD for ship use are met.

Applicants may apply for both funding and the use of a MARAD ship to support a single ballast water project, but it is not necessary to request use of a MARAD ship in order to receive consideration for funding, nor is it necessary to request funding in order to receive consideration for use of a MARAD ship. Any proposal requesting both funding and the use of a MARAD ship, however, will only be awarded funding if it (a) is selected for funding by the selection process described in section V., below; (b) is approved by MARAD for use on a ship; and (c) meets all requirements prosed by MARAD as conditions of use of the ship, throughout the duration of the project. Availability of MARAD ships is not automatic; MARAD reserves the right to offer or decline any request. Funding may be denied to an otherwise worthy proposal requesting both funding and the use of a MARAD ship, if discussions between the applicant and MARAD are incomplete at the time funding decisions are made.

Note: Due to security restrictions in the aftermath of 9/11/01, the number and frequency of visits to a participating ship, and the number of visitors at any given time, may be limited. All visits must be scheduled and approved by a ship's POC (to be designated) in advance. Also, approval for use of a MARAD ship for testing will take into consideration the degree to which existing system may be disturbed. In no case will operational or mission capability be allowed to be compromised, MARAD will be the sole determinator for this caveat. For further information see Section VII.

III. Eligibility

Eligible applicants are individuals, institutions of higher education, other nonprofit organizations, commercial organizations, Federal, State, local and Indian tribal governments, foreign governments, organizations under the jurisdiction of foreign governments, and international organizations. Applications from non-Federal and eligible Federal applicants (including NOAA employees) will compete in the same selection process against the Evaluation Criteria in Section IV. Proposals selected for funding from non-Federal applicants will be funded through project grants or cooperative agreements under the terms of this notice. We will use cooperative agreements if the proposed project includes substantial involvement that will be described in the award. Examples of substantial involvement may include collaboration in research, participation in selection of key personnel, or approval of key stages in the project before subsequent steps are undertaken. Contact Dorn Carlson, listed under FOR FURTHER INFORMATION CONTACT, above, with questions about cooperative agreements. Federal agencies will be funded through interagency transfers.

Please Note: A Federal applicant will be considered eligible to receive funds only if it can demonstrate that it has legal authority to receive funds from another Federal agency in excess of its appropriation. The Economy Act (31 U.S.C. 1535) will not be considered as legal authority to transfer funds since awards issued under this announcement will not constitute a purchase of goods or services by DOC, DOI or DOT.

IV. Evaluation Criteria

The technical evaluation criteria for proposals submitted under this announcement are as follows:

(1) Impact of Proposed Project (70 percent): The effect this activity, if successful, will have on the development of ballast water treatment technologies capable of addressing documented ballast water priorities, or the need for this activity as a necessary step toward such technology development; and the degree to which potential users of the results of the proposed activity have been involved in planning the activity and will be involved in the execution of the activity as appropriate.

(2) Scientific or Professional Merit (30 percent): Probability of the activity successfully meeting its objectives; degree to which the activity will advance the state of the science or technology through synthesis of existing information and use and extension of cutting edge as well as state-of-the-art methods; degree to which new approaches to solving problems and exploiting opportunities in resource management or development; appropriateness of the experimental design and scale of the experiment to the level of development of the technology; degree to which investigators are qualified by education, training, and/or experience to execute the proposed activity; degree to which the principles of the technology have been proven in appropriate prior experiments; and record of achievement with previous funding.

V. Selection Procedures

Proposals will be subjected to peer review and ranked in accordance with the assigned weights of the above evaluation criteria by an independent panel consisting of government, academic, and industry experts. Panel members will provide individual evaluations on each proposal, and there will be no consensus advice. Their recommendations and evaluations will be considered by the Federal Program Officers for Sea Grant, the Service, and MARAD, who will:

(1) Ascertain which proposals best meet the program priorities, as described in Section II under Resource Availability and Priorities, giving consideration to geographic distribution and representation, maintaining a balanced program of research, and no unnecessarily duplicating other projects that are currently funded or are approved for funding by NOAA, DOI, and other State and Federal agencies (hence, awards may not necessarily be made to the proposals receiving the highest technical evaluation scores);

(2) Select the proposals to be funded or for which use of a MARAD ship will be granted;

(3) Determine which components of the selected projects will be funded or performed on a MARAD ship;

(4) Determine the total duration of funding or MARAD ship use for each proposal; and,

(5) Determine the amount of funds available for each proposal.

Federal Program Officers from Sea Grant and the Service will make the final determinations concerning proposals for funding. Federal Program Officers from MARAD, Sea Grant, and the Service will work together to reach decisions, but the final responsibility for making decisions in each program area rests with the Federal Program Officer of the agency that is funding or supporting that area.

Investigators may be asked to respond to questions or modify objectives, work plans, or budgets prior to final approval of the award. Subsequent grant administration procedures will be in accordance with current DOC or DOI grants procedures. A summary statement of the technical evaluation by the peer panel will be provided to each applicant.

VI. Instructions for Application for Funding

Although investigators are not required to submit more than 3 copies of each proposal, the normal review process requires 10 copies. Investigators are encouraged to submit sufficient copies for the full review process, if it does not cause a financial hardship, if they wish all reviewers to receive color, unusually sized (not 8.5″x11″), or otherwise unusual materials submitted as part of the proposal. Only three copies of the federally required forms are needed. Facsimile transmissions of proposals will not be accepted. Proposals on electronic media will be accepted ONLY if:

—Three copies of all federally required forms are submitted in paper copy with appropriate signatures;

—The proposal is submitted on physical media such as removable disk or CD-ROM disk (e-mail proposals will not be accepted);

—The disk is accompanied by one paper copy of the entire proposal (including a signed title page), and a signed letter identifying the file name of the electronic proposal, and warranting that the electronic file is identical to the submitted paper copy; and,

—The format of the proposal and the physical media used are readable and printable by equipment available at the Sea Grant office, and when printed out meets all formatting requirements below. (The office can read and print files in ASCII plaintext, Acrobat PDF, WordPerfect 9 and Microsoft Word 2000 formats. Contact Dorn Carlson, listed under FOR FURTHER INFORMATION CONTACT, above, with questions about electronic capabilities of the sea Grant office).

All pages should be single- or double-spaced, typewritten in at least a 10-point font, and printed on metric A4 (210mm × 297mm) or 8.5″ × 11″ paper. Brevity will assist reviewers and program staff in dealing effectively with proposals. Therefore, the Project Description may not exceed 15 pages. Tables and visual materials, including figures, charts, graphs, maps, photographs, and other pictorial presentations, are included in the 15-page limitation for the Project Description. As noted below, literature cited, budget information, current and pending support, vitae of investigators, and letters of support, if any, are not considered part of the Project Description and are not included in the 15-page limitation. Conformance to the 15-page limitation will be strictly enforced.

All information needed for review of the proposal should be included in the main text; no appendices, other than support letters, if any, are permitted. Failure to adhere to the above limitations will result in the proposal being rejected without review.

(1) Signed Title Page: The title page should be signed by the Principal Investigator and the institutional representative. The Principal Investigators and collaborators and the institutional representative should be identified by affiliation and contact information. The total amount of Federal funds being requested should be listed for each budget period; for projects involving multiple institutions, the total should include all subrecipient budgets.

(2) Project Summary: It is critical that the project summary accurately describes the research being proposed and conveys all essential elements of the research. Applicants are encouraged to use the Sea Grant Project Summary Form 90-2, but may use their own form as long as it provides the following information:

1. Title: Use the exact title as it appears in the rest of the applications.

2. Investigators: List the names and affiliations of each investigator who will significantly contribute to the project. Start with the Principal Investigator.

3. Funding: Funding request for each year of the project, Including matching funds if appropriate.

4. Project Period: Start and completion dates. Proposals should request a start date of November 1, 2002, or later.

5. Project objectives, methodology, and rationale: This should be a brief statement of the rationale for the project, the scientific or technical objectives and/or hypotheses to be tested, and a summary of work to be completed.

(3) Project Description (15-page limit):

(a) Introduction/Background/Justification: Subjects that investigator(s) may wish to include in this section are: (i) Current state of knowledge; (ii) contributions that the study will make to the particular discipline or subject area; (iii) contributions and impacts the study will make toward ballast water technology development; and (iv) as appropriate, contributions of investigator's previously funded research results to current proposal.

This section should also include a discussion of the prior technical research that indicates the likelihood of success of the proposed project. If the proposal is for a pilot-scale project, this discussion should include a description of laboratory experiments on the proposed technology, and the results of those experiments; if the proposal is for a full-scale project, the discussion should include prior laboratory- and pilot-scale experiments and results. Wherever possible, cite the peer- reviewed literature where these results were published.

(b) Research or Technical Plan: (i) Objectives to be achieved, hypotheses to be tested; (ii) plan of work—discuss how stated project objectives will be achieved; and (iii) role of project personnel.

Research Protocol. Research activities funded under this program must not accelerate the spread of aquatic nuisance species to non-infested watersheds. Therefore, if the proposed project involves the use of ballast water or simulated ballast water to which living organisms are added that are not already established at the site of the project, or if the project involves increasing the population or viability of living ballast water organisms that are not already established at the site of project, the proposal must describe the research protocol that will be used to assure that these organisms are not released to the environment in a viable state. This research protocol provided may be reviewed by an interagency committee created under the Nonindigenous Aquatic Nuisance Prevention and Control Act of 1990 (16 U.S.C. 4701 et seq.). Proposals lacking a suitable protocol may not be eligible for funding. (Proposals that do not involve addition, concentration, enrichment, or increasing the viability of living organisms do not need to include this research protocol.) Guidelines for developing suitable protocols are available from the internet Web site http://www.ANSTaskForce.gov/resprot.htm, or from Dorn Carlson, listed under FOR FURTHER INFORMATION CONTACT, above).

(c) Output: Describe the project outputs and impacts that will directly enhance the Nation's ability to reduce the impacts of aquatic nuisance species in ballast water. Describe the contribution of the project to the ultimate successful widespread availability and field use of a mature ballast water technology.

(d) Coordination with other Program Elements: Describe any coordination with other agency programs or ongoing research efforts. Describe any other proposals that are essential to the success of this proposal.

If the proposal involves the discharge of any chemical, such as a biocide or water modifying agent, or chemical decomposition products or residuals, into waters of the United States, describe the coordination with the appropriate State environmental or natural resource agency responsible to determine if a discharge permit is needed and will be issued.

If the proposal involves the discharge of unexchanged ballast water originating beyond U.S. Exclusive Economic Zone into waters of the Great Lakes or the Hudson River, describe the coordination with the U.S. Coast Guard to determine if an approval under regulations at 33 CFR part 151 subpart D, is needed and will be issued.

If the proposal involves the installation of prototype equipment on an operating ship, describe the coordination with the U.S. Coast Guard concerning whether approval is needed.

If the proposal involves the discharge of bassast water in any jurisdiction that places other limitations or conditions on that discharge, describe the coordination with the agency responsible for determining if that discharge meets those limitations or conditions.

(e) Vessel Selection (if appropriate): Applications proposing shipboard demonstrations of ballast water management should address the requirements and priorities listed in the National Invasive Species Act of 1996 (16 U.S.C. 4711-4714) for selecting vessels for demonstration projects. These requirements are available through the Sea Grant Web site (www.nsgo.seagrant.org/research/nonindigenous/RFP02.html) or from Dorn Carlson at the National Sea Grant Office or Debra Aheron U.S. Maritime Administration (listed under FOR FURTHER INFORMATION CONTACT, above). Additionally, applicants must indicate whether they are coordinating with MARAD with respect to using a MARAD ship.

(4) Literature Cited.

(5) Budget and Budget Justification: There should be a separate budget for each year of the project as well as a cumulative annual budget for the entire project. Applicants are encouraged to use the Sea Grant Budget Form 90-4, but may use their own from as long as it provides the same information as the Sea Grant form. Subcontracts should have a separate budget page. Matching funds must be indicated if provided. Applicants should provide justification for all budget items in sufficient detail to enable the reviewers to evaluate the appropriateness of the funding requested. For those applications to be supported by Sea Grant, regardless of any approved indirect cost rate applicable to the award, the maximum dollar amount of allocable indirect costs for which the Department of Commerce will reimburse the Recipient shall be the lesser of: (a) The Federal share of the total allocable indirect costs of the award based on the negotiated rate with the cognizant Federal agency as established by audit or negotiation; or (b) the line item amount for the Federal share of indirect costs contained in the approved budget of the award.

(6) Current and Pending Support: Applicants must provide information on all current and pending Federal support of ongoing projects and proposals, including subsequent funding in the case of continuing grants. The proposed project and all other projects or activities using Federal assistance and requiring a portion of time of the principal investigator or other senior personnel should be included. The relationship between the proposed project and these other projects should be described, and the number of person-months per year to be devoted to the projects must be stated. Similar information must be provided for all proposals already submitted or submitted concurrently to other possible sponsors, including those within the Departments of Commerce, the Interior, and Transportation.

(7) Vitae (2 pages maximum per investigator).

(8) Standard Application Forms: Applicants may obtain all required application forms through the Sea Grant Web site: (www.nsgo.seagrant.org/research/rfp/index.html#3) or from Dorn Carlson at the National Sea Grant Office (listed under FOR FURTHER INFORMATION CONTACT above) or for purposes of using a MARAD ship, from Debra Aheron, U.S. Maritime Administration (listed under FOR FURTHER INFORMATION CONTACT above).

Standard Forms 424, Application for Federal Assistance, and 424B, Assurances—Non-Construction Programs, (Rev 4-88). Please note that both the Principal Investigator and an administrative contact should be identified in Section 5 of the SF424. Leave section 10 blank.

VII. Instructions for Applications for Use of a MARAD Ship

Applications for shipboard testing must satisfy all MARAD requirements for the use of their ships as test platforms. For purposes of this test phase, ships cannot be moved from their existing locations. However, testing may be conducted under certain conditions during temporary vessel movements such as sea trials. Applicants for use of a MARAD ship (for Ballast Water technology projects) must submit a Standard Form 424 containing the name, affiliation, address and phone number of the principal investigator requesting the use of a MARAD ship. The applicant must also provide:

(1) The type and location of the ship required, from a list of available ships (obtainable from Debra Aheron, listed under FOR FURTHER INFORMATION CONTACT above), and the projected time and duration of tests.

To assure timely ship assignments, applicants are strongly urged to contact Ms. Aheron, listed under FOR FURTHER INFORMATION CONTACT by June 20, 2002, to discuss ship availability and ship use requirements.

(2) A description of the project proposed to be conducted on the ship. If the applicant is also applying for funding under this Request for Proposals to support this project, a copy of the complete application for funding submitted may be provided as the description of the project. In response to this application, MARAD will open a dialog with the applicant, during which additional information relating to the logistical and other requirements of the project will be required of the applicant.

VIII. Other Requirements for Successful Applicants

In addition to producing an annual progress report and a final report, successful applicants will be expected to attend an annual ballast water investigators meeting in the continental United States, probably in the fall, during each year that the project is ongoing. Applicants should consider travel costs to these meetings when preparing their budgets.

Successful applicants for use of a MARAD ship will be required to enter into a Memorandum of Agreement (MOA) or contract with MARAD, which will address in detail MARAD requirements for the use of their ships as test platforms. Shipboard installations for the testing purposes shall be temporary in nature; successful applicants shall be required to dismantle all temporary installations during ship activation, if any, at the end of testing and reinstall any equipment removed during the temporary installation. Temporary installations must not impact the ship's and its safety at any time during the installation, removal, and testing. Applicants will be required to submit proof of insurance as requested under the MOA.

All Department of the Interior assistance awards are subject to the requirements of 43 CFR part 12, Administrative and Audit Requirements and Cost Principles for Assistance Programs.

The Department of Commerce Pre-Award Notification Requirements for Grants and Cooperative Agreements, contained in the Federal Register notice of October 1, 2001 (66 FR 49917), are applicable to this solicitation. However, please note that the Department of Commerce will not implement the requirements of Executive Order 13202 (66 FR 49921), pursuant to guidance issued by the Office of Management and Budget, in light of a court opinion which found that the Executive Order was not legally authorized. See Building and Construction Trades Department v. Allbaugh, 172 F. Supp. 2d 138 (D.D.C. 2001). This decision is currently on appeal. When the case been finally resolved, the Department will provide further information on implementation of Executive Order 13202.

Projects selected for funding by Sea Grant in Sea Grant states may be administered through the Sea Grant Program from that state. Unsuccessful applications will be held in the National Sea Grant Office for a period of five (5) years and then destroyed.

Pursuant to Executive Orders 12876, 12900, and 13021, the Department of Commerce, National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet Web site: http://www.ed.gov/offices/OCR/minorityinst.html.

This notice contains collection-of-information requirements subject to the Paperwork Reduction Act. The use of Standard Forms 424, 424B, and SF-LLL has been approved by OMB under the respective control numbers 0338-0043, 0348-0040, and 0348-0046. The use of NOAA Forms 90-2 and 90-4, or equivalents, has been approved by OMB under the control number 0648-0362. Public reporting burden for these NOAA forms is estimated to average 20 minutes for a NOAA Form 90-2 and 15 minutes for a NOAA Form 90-4. These response times include the time for reviewing instructions, searching existing data sources, gathering and maintaining the data needed, and completing and reviewing the collection of information. Send comments regarding this burden estimate, or any other aspect of this data collection, including suggestions for reducing the burden, to the National Sea Grant Office (see FOR FURTHER INFORMATION CONTACT, above).

Notwithstanding any other provision of law, no person is required to respond to, nor shall any person be subject to a penalty for failure to comply with, a collection of information subject to the Paperwork Reduction Act, unless that collection displays a currently valid OMB control number.

IX. Classification

Applications under this program are not subject to Executive Order 12372, “Intergovernmental Review of Federal Programs.”

It has been determined that this notice is not significant for purposes of Executive Order 12866.

It has been determined that this notice does not contain policies with Federalism implications as that term is defined in Executive Order 13132.

Because notice and comment are not required under 5 U.S.C. 553, or any other law, for notices relating to public property, loans, grants, benefits or contracts (5 U.S.C. 553(a)), a Regulatory Flexibility Analysis is not required and has not been prepared for this notice, 5 U.S.C. 601 et seq.

Dated: May 31, 2002.
Louisa Koch,
Deputy Assistant Administrator, Office of Oceanic and Atmospheric Research, National Oceanic and Atmospheric Administration, Department of Commerce.
Dated: April 19, 2002.
Cathleen Short,
Assistant Director for Fisheries, U.S. Fish and Wildlife Service, Department of the Interior.
Dated: May 10, 2002.
Margaret D. Blum,
Associate Administrator for Ports, Intermodal and Environmental Activities, U.S. Maritime Administration, Department of Transportation.
Dated: May 15, 2002.
James E. Caponiti,
Associate Administrator for National Security, U.S. Maritime Administration, Department of Transportation.

[FR Doc. 02-14102 Filed 6-5-02; 8:45 am]

BILLING CODE 3510-KA-M